PRIVACY AND CIVIL LIBERTIES OVERSIGHT BOARD

6 CFR Part 1000

[PCLOB; Docket No. 2013-0005; Sequence 2]

RIN 0311-AA02

Organization and Delegation of Powers and Duties; Correction

AGENCY: Privacy and Civil Liberties Oversight Board.

ACTION: Final rule; correction.

SUMMARY: The Privacy and Civil Liberties Oversight Board is issuing a correction to fix a duplicate section designation published in a final rule in the Federal Register on June 5, 2013.

DATES: This correction is effective June 28, 2013.

FOR FURTHER INFORMATION CONTACT: Susan Reingold, Chief Administrative Officer, Privacy and Civil Liberties Oversight Board, at 202-331-1986.

SUPPLEMENTARY INFORMATION:

Correction

In rule FR Doc. 2013-13166 published in the Federal Register at 78 FR 33690, June 5, 2013, an incorrect section heading was codified.

Accordingly, the Privacy and Civil Liberties Oversight Board amends 6 CFR part 1000 by making the following correcting amendment:

PART 1000—ORGANIZATION AND DELEGATION OF POWERS AND DUTIES OF THE PRIVACY AND CIVIL LIBERTIES OVERSIGHT BOARD

1. The authority citation for part 1000 continues to read as follows:

Authority: 5 U.S.C. 552.

§ 1000.3 Corrected.

2. The second and erroneous occurrence of § 1000.3 (Delegations of authority) is correctly redesignated as § 1000.5.

Dated: June 24, 2013.
Diane M. Janosek,
Chief Legal Counsel.

[FR Doc. 2013-15538 Filed 6-27-13; 8:45 am]

BILLING CODE 6820-B3-P